DEPARTMENT OF AGRICULTURE

Food and Nutrition Service

Agency Information Collection Activities; Proposed Collection; Comment Request: Commodity Supplemental Food Program, the Food Distribution Program on Indian Reservations, and the Supplemental Nutrition Assistance Program; Title VI Civil Rights Collection Reports

AGENCY: Food and Nutrition Service (FNS), USDA.

ACTION: Notice.

SUMMARY: In accordance with the Paperwork Reduction Act of 1995, this notice invites the general public and other public agencies to comment on this proposed information collection. This collection is a revision of a currently approved collection under OMB No.0584-0025, Civil Rights Title VI Collection Reports—Forms FNS-191 and FNS-101, for the Commodity Supplemental Food Program, the Food Distribution Program on Indian Reservations, and the Supplemental Nutrition Assistance Program.

DATES: Written comments must be received on or before April 9, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jane Duffield, Food and Nutrition Service, U.S. Department of Agriculture, 3101 Park Center Drive, Room 818, Alexandria, VA 22302. Comments may also be submitted via fax to the attention of Jane Duffield at 703-605-4385 or via email to Jane.Duffield@fne.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 818, Alexandria, Virginia 22302.

All responses to this notice will be summarized and included in the request for Office of Management and Budget approval. All comments will be a matter of public record.

FOR FURTHER INFORMATION CONTACT: Requests for additional information or copies of this information collection should be directed to Jane Duffield at 703-605-4385.

SUPPLEMENTARY INFORMATION: Title: Civil Rights Title VI Collection Reports.

Form Number: FNS-191 and FNS-101.

OMB Number: 0584-0025.

Expiration Date: May 30, 2012.

Type of Request: Revision of a currently approved collection.

Abstract: Title VI of the Civil Rights Act of 1964, 42 U.S.C. 2000d to 2000d-7, prohibits discrimination on the basis of race, color, and national origin in programs receiving Federal financial assistance. Department of Justice (DOJ) regulations, 28 CFR 42.406, require all Federal agencies to provide for the collection of racial/ethnic data and information from applicants for and recipients of Federal assistance sufficient to permit effective enforcement of Title VI. For purposes of the Information Collection Notice only, the Food and Nutrition Service (FNS) employs program terminology in place of the standard Title VI terminology adopted by the U.S. Department of Agriculture (USDA) and codified at 7 CFR 15.2. Thus, “State agencies,” “local agencies,” and/or “operators” are the program entities responsible for fulfilling the data collection requirements associated with “primary recipients” and/or “recipients” as defined by Title VI. Moreover, the program terms “respondents,” “applicants,” and/or “participants” refer to the “potential beneficiaries,” “applicant beneficiaries,” and/or “actual beneficiaries” of Federal financial assistance as defined by Title VI. In order to conform with the statutory mandates of Title VI of the Civil Rights Act of 1964, DOJ regulations, and USDA regulations on nondiscrimination in Federally assisted programs, the USDA's Food and Nutrition Service (FNS) requires State agencies to submit data on the racial/ethnic categories of persons receiving benefits from FNS food assistance programs.

In all three programs, State and local agencies collect racial/ethnic information on the benefits application form that applicants may complete and file manually or electronically. The application form must clearly indicate that the information is voluntary and that the race and ethnic information will not affect an applicant's eligibility or level of benefits. It must also state that the reason for the collection of the information is to assure that program benefits are distributed without regard to race, color or national origin. All three programs allow the individual to self-identify his or her racial/ethnic status on the application. Visual observation by a program representative is used to collect the data when the individual does not self-identify. In either case the information is recorded on the application form and entered into the agency's information system. The Federal reporting forms do not identify individual participants. Local agencies use the two forms referenced above (i.e., the FNS-191 and FNS-101) to report data on the Commodity Supplemental Food Program (CSFP), the Food Distribution Program on Indian Reservations (FDPIR), and the Supplemental Nutrition Assistance Program (SNAP) to FNS as explained below. FNS' data collection requirement for operators is found in the regulations for the CSFP at 7 CFR 247.29(b), and for the SNAP at 7 CFR 272.6(g); the requirement for the FDPIR is found in FNS Handbook 501.

Affected Public: State, Local and Tribal agencies. All State or local agencies must submit the appropriate form in order to receive Federal assistance and comply with applicable legislation. If a State or local agency does not comply voluntarily, the State or local agency is subject to fund termination, suspension, or denial, or to judicial action. Respondent groups identified include: (1) CSFP local agencies complete the FNS-191 (FNS requires local agencies to provide annually the actual number and racial/ethnic designations of participants who receive CSFP benefits during the month of April); and (2) SNAP and FDPIR State, local or Tribal agencies complete the FNS-101 (FNS requires State, local or Tribal agencies to report annually the actual number of participants who receive FDPIR and/or SNAP benefits in the month of July).

Estimated Number of Respondents: The total estimated number of respondents is 2,927. This includes: 192 for local CSFP agencies, 134 local FDPIR agencies; and 2,601 for SNAP local agencies.

Estimated Number of Responses per Respondent: The local CSFP agencies respond to the FNS-191 form once a year, both the FDPIR and SNAP local agencies respond to the FNS-101 once a year.

Estimated Total Annual Responses: 2,927 responses.

Estimated Time per Response:

Form FNS-191: The local CSFP agencies submit Form FNS-191 at an estimate of 2 hours per respondent (including respondent time of 1.92 and an additional recordkeeping burden of .08 hours per respondent for maintaining the response) or 384 total hours.

Form-FNS 101: The local FDPIR and SNAP agencies submit Form FNS-101 at an estimate of 2 hours per respondent (including respondent time of 1.92 and an additional burden of .08 hours per respondent for maintaining the responses) or 5,470 hours.

Estimated Total Annual Burden on Respondents: 5,854 hours. See the table below for estimated total annual burden for each type of respondent.

Respondent | Estimated number of respondents | Responses annually per respondent | Total annual responses (Col. bxc) | Estimated avg. number of hours per response | Estimated total hours (Col. dxe)
Reporting Burden
SNAP local agencies, FNS 101 | 2,601 | 1.00 | 2,601.00 | 2 | 5,202
FDPIR local agencies, FNS 101 | 134 | 1.00 | 134.00 | 2 | 268
CSFP local agencies, FNS 191 | 192 | 1.00 | 192.00 | 2 | 384
Total | 2,927 | 1.00 | 2,927 | 6 | 5,854

Dated: February 3, 2012.
Jeffrey J. Tribiano,
Acting Administrator, Food and Nutrition Service.

[FR Doc. 2012-2960 Filed 2-8-12; 8:45 am]

BILLING CODE 3410-30-P